DEPARTMENT OF THE INTERIOR

Fish and Wildlife Service

Endangered Species Recovery Permits and Applications

AGENCY: Fish and Wildlife Service, Interior.

ACTION: Notice of availability and receipt of application.

SUMMARY: The following applicant has applied for a permit to conduct certain activities with endangered species pursuant to section 10(a)(1)(A) of the Endangered Species Act of 1973, as amended (Act). This notice is provided pursuant to section 10(c) of the Act.

DATES: Written data or comments must be received November 21, 2005.

ADDRESSES: Written data or comments should be submitted to the Assistant Regional Director-Ecological Services, U.S. Fish and Wildlife Service, P.O. Box 25486, Denver Federal Center, Denver, Colorado 80225-0486.

SUPPLEMENTARY INFORMATION: Permit Application Number—TE-105504. Applicant—Montana Department of Fish, Wildlife and Parks. The applicant requests a permit to take the gray wolf (Canis lupus) throughout locations in northern Montana where the species is listed as endangered. The applicant proposes to conduct research and monitoring of wolf populations, implement proactive strategies, and conduct, or direct, non-lethal and lethal control actions to reduce or resolve wolf-livestock and dog conflicts and human safety concerns, as is currently conducted by the U.S. Fish and Wildlife Service (Service) and in accordance with the 1999 Interim Wolf Control Plan. If the permit is issued, the applicant would assume responsibility from the Service for managing wolves in northwestern Montana. Take for control purposes would be consistent with the State Management Plan for wolves and the 1999 Interim Wolf Control Plan, which provide conditions on when wolf control is appropriate, including the following requirements—clear evidence that wolves were responsible for the livestock injury or death; reason to believe that additional losses would occur if the problem wolf or wolves were not controlled; that livestock grazing on Federal lands be in compliance with approved management plans and annual operating plans for allotments; and, that lethal control be authorized in writing prior to its implementation when possible. Non-lethal control would involve harassing wolves by using rubber bullets, projectile bean bags, or other scare tactics. These activities are aimed at enhancement of survival for the species in the wild. The Service has determined that a practical, responsive management program including control is essential to the wolf recovery effort (Service 1999). If issued, the permit would not affect ongoing wolf management in the remainder of the State of Montana conducted in accordance with the non-essential experimental population regulations found at 50 CFR 17.40(n). Additional information about wolf recovery and conservation in the northwestern United States, including control of problem wolves, can be found in various reports at http://westerngraywolf.fws.gov/.

Availability of Documents: Documents and other information submitted with this permit are available for review, subject to the requirements of the Privacy Act (5 U.S.C. 552a) and Freedom of Information Act (5 U.S.C. 552), by any party who submits a written request for a copy of such documents within 20 days of the date of publication of this notice to Kris Olsen, by mail (see ADDRESSES) or by telephone at 303-236-4256. A copy of the application is available for public inspection at the Service's Regional Web site at http://westerngraywolf.fws.gov. All comments received from individuals become part of the official public record. Requests for such comments will be handled in accordance with the Freedom of Information Act and the Council on Environmental Quality's National Environmental Protection Act regulations [40 CFR 1506.6(f)]. Our practice is to make comments, including names and home addresses of respondents, available for public review during regular business hours. Individual respondents may request that we withhold their home address from the record, which we will honor to the extent allowable by law. If a respondent wishes us to withhold his/her name and/or address, this must be stated prominently at the beginning of the comment.

Authority: 16 U.S.C. 1539(c).

Dated: September 22, 2005.
Mary G. Henry,
Regional Director, Denver, Colorado.

[FR Doc. 05-21055 Filed 10-20-05; 8:45 am]

BILLING CODE 4310-55-P